DEPARTMENT OF STATE

[Public Notice 5900]

Culturally Significant Object Imported for Exhibition Determinations: “Khatchkar of Gtič”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the object “Khatchkar of Gtič,” imported from abroad for temporary exhibition within the United States, is of cultural significance. The object is imported pursuant to a loan agreement with the foreign owner or custodian. I also determine that the exhibition or display of the exhibit object at The Metropolitan Museum of Art, New York, New York, from on or about August 20, 2007, until on or about August 1, 2008, and at possible additional exhibitions or venues yet to be determined, is in the national interest. The action of the United States in this matter, and the immunity based on the application of the provisions of law involved, do not represent or imply any change in the position of the United States regarding the status of modern-day Nagorno-Karabakh. Public Notice of these determinations is ordered to be published in the Federal Register.

FOR FURTHER INFORMATION CONTACT: For further information, including a list of the exhibit objects, contact the Office of the Legal Adviser, U.S. Department of State (telephone: 202/453-8050). The address is U.S. Department of State, SA-44, 301 4th Street, SW., Room 700, Washington, DC 20547-0001.

Dated: August 15, 2007.
C. Miller Crouch,
Principal Deputy Assistant Secretary for Educational and Cultural Affairs, Department of State.

[FR Doc. E7-16588 Filed 8-21-07; 8:45 am]

BILLING CODE 4710-05-P